FEDERAL MARITIME COMMISSION

Ocean Transportation Intermediary License; Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Sobe Enterprises, Inc. dba Sobe Export Services, Claude Sterling, President. (Qualifying Individual). David Desrouleaux, Vice President.

Golden Bell Transport Services, 9393 Activity Road, Ste. E, San Diego, CA 92126. Lemuel R. Bravo. Sole Proprietor.

Unique Logistics International (LAX) Inc., 10410 S. La Cienega Blvd., Inglewood, CA 90304. Officers: Terry Tsang, Secretary, (Qualifying Individual), Richard Chi Tak Lee, CEO.

Daily Freight Cargo Corp., 8538 NW 70 Street, Miami, FL 33166. Officers: Pedro David Esteller Bangel, President, (Qualifying Individual), Teresa De Vincenzo, Secretary.

Wellmax Logistics Company, Ltd., 148-36 Guy R. Brewer Blvd., Ste. 203, Jamaica, NY 11434. Officer: Timothy Yan, President. (Qualifying Individual).

Non-Vessel-Operating Common Carrier and Ocean Freight Forwarder Transportation Intermediary Applicants

Sistemas Aereos LLC, 11005 NW 33rd Street, Doral, FL 33172. Officer: Charles V. Eggleton, General Manager. (Qualifying Individual).

Jenson Logistics, Inc. dba Jenson International, 617 E. Hermosa Drive, San Gabriel, CA 91775. Officers: Shin-Chen Liu, CFO. (Qualifying Individual). Jack Yu-Sheng Liau, CEO.

Concord International Transport, Inc., 10100 N.W. 116 Way, #14, Medley, FL 33178. Officers: Adriana Gonzalez, Vice President. (Qualifying Individual). Yogui Gonzalez President.

Max Global Group, Inc., 2420 Camino Ramon, Ste. 220, San Ramon, CA 94583. Officer: Joan Yan Ma, President. (Qualifying Individual).

Eco Logistics USA, Inc., 661 Shenandoah Trail, Elgin, IL 60123. Officer: Naushad A. Imam, President. (Qualifying Individual).

Ocean Freight Forwarder—Ocean Transportation Intermediary Applicants

TSC Logistics, LLC, 2500-b Browning Highway, Suite 100, Baltimore, MD 21224. Officer: Damon M. Gunter, Vice President. (Qualifying Individual).

International Distribution Forwarding, Inc., 7204 N.W. 25th Street, Miami, FL 33122. Officer: Edwin Acevedo, Treasurer. (Qualifying Individual).

Dated: May 19, 2006.
Bryant L. VanBrakle,
Secretary.

[FR Doc. E6-7967 Filed 5-23-06; 8:45 am]

BILLING CODE 6730-01-P